DEPARTMENT OF HEALTH AND HUMAN SERVICES

Request for Information on Promising Practices for Advancing Health Equity for Intersex Individuals; Correction

ACTION: Notice; correction.

SUMMARY: The Office of the Assistant Secretary for Health published a document in the Federal Register of February 10, 2023, announcing a request for information on Promising Practices for Advancing Health Equity for Intersex Individuals. The document included incorrect information regarding the Addresses section and also Supplementary Information and also the collection for public comment.

FOR FURTHER INFORMATION CONTACT: Adrian Shanker, Adrian.shanker@hhs.gov or by phone at (202) 961-6483.

SUPPLEMENTARY INFORMATION:

Correction

In the Federal Register of February 10, 2023, in FR Doc 2023-02826, on page 8876 in the first column, correct the Addresses section to read, “Please see the supplementary information to view the questions. Comments must be submitted via Regulations.gov. Mailed paper and emailed submissions will not be reviewed.”

At the second column, tenth line, after the end of the sentence “conversation therapy.” the sentence should continue with the following: “(efforts to change an individual's sexual orientation, gender identity, or gender expression, a practice not supported by any credible evidence that has been rejected and disavowed by behavioral health experts and associations). Conversion therapy perpetuates outdated views of gender roles and identities as well as the negative stereotype that being a sexual or gender minority or identifying as LGBTQI+ is an abnormal aspect of human development. Most importantly, it may put young people at risk of serious harm.”

At the second column, second paragraph to the end of the document is to be replaced as follows: “Request for Comments on the Report Development on Promising Practices for Advancing Health Equity for Intersex Individuals: The OASH invites input from intersex people, stakeholders throughout the scientific research community, clinical and behavioral practice communities, patient and family advocates, school and university-based campus health care providers, persons from rural and frontier areas, scientific or professional organizations, federal partners, internal HHS stakeholders, and other interested members of the public on the two questions highlighted below. This input will serve as a valuable element in the development of the report, and the community's time and consideration are highly appreciated.

• What do you see as the current clinical/behavioral, research, services, and/or policy gaps that you are hoping this report addresses?

• What recent or ongoing research, innovative clinical/behavioral approaches and/or policy actions do you think are important for us to know about as we begin this work?

• What are the barriers to intersex individuals receiving clinical/behavioral care? Are there innovative policies or practices that overcome such barriers?

• What are the social factors that impact clinical/behavioral care (e.g., the medical community's perceptions or biases around sex/gender) and how do these impact delivery and quality of care for intersex individuals?

• What promising practices for advancing health equity for intersex individuals should we be aware of?

Responses to this RFI are voluntary. Do not include any personally identifiable, proprietary, classified, confidential, trade secret, or sensitive information in your response. The responses will be reviewed by OASH staff, and individual feedback will not be provided to any responder. The Government will use the information submitted in response to this RFI at its discretion. The Government reserves the right to release comments publicly and to use any submitted information on public HHS websites; in reports; in summaries of the state of the science; in any possible resultant solicitation(s), grant(s), or cooperative agreement(s); or in the development of future funding opportunity announcements.

This RFI is for information and planning purposes only and should not be construed as a solicitation for applications or proposals, or as an obligation in any way on the part of the United States Federal Government, the HHS, or individual HHS Agencies and Offices to provide support for any ideas identified in response to it. The Federal Government will not pay for the preparation of any information submitted or for the Government's use of such information.

No basis for claims against the U.S. Government shall arise as a result of a response to this RFI or from the Government's use of such information. Additionally, the Government cannot guarantee the confidentiality of the information provided.”

Dated: February 15, 2023.
Rachel L. Levine,
Assistant Secretary for Health.

[FR Doc. 2023-03539 Filed 2-17-23; 8:45 am]

BILLING CODE 4150-28-P